DEPARTMENT OF COMMERCE

International Trade Administration

[A-583-854]

Certain Steel Nails From Taiwan: Final Results of Antidumping Duty Administrative Review and Final Determination of No Reviewable Sales; 2022-2023

AGENCY: Enforcement and Compliance, International Trade Administration, U.S. Department of Commerce.

SUMMARY: The U.S. Department of Commerce (Commerce) determines that certain steel nails (nails) from Taiwan were sold in the United States at less than normal value during the period of review (POR), July 1, 2022, through June 30, 2023. Commerce also determines that certain companies under review had no reviewable sales during the POR.

DATES: Applicable November 26, 2024.

FOR FURTHER INFORMATION CONTACT: Faris Montgomery or Henry Wolfe, AD/CVD Operations, Office VIII, Enforcement and Compliance, International Trade Administration, Department of Commerce, 1401 Constitution Avenue NW, Washington, DC 20230; telephone: (202) 482-1537 or (202) 482-0574, respectively.

SUPPLEMENTARY INFORMATION:

Background

On July 16, 2024, Commerce published the preliminary results in the 2022-2023 administrative review of the antidumping duty order on nails from Taiwan and invited interested parties to comment.¹ On July 22, 2024, Commerce tolled certain deadlines in this administrative proceeding by seven days.² The deadline for the final results is now November 20, 2024. A summary of the events that occurred since publication of the Preliminary Results, as well as a full discussion of the issues raised by parties for these final results, are included in the Issues and Decision Memorandum.³ Commerce conducted this administrative review in accordance with section 751(a)(1)(B) of the Tariff Act of 1930, as amended (the Act).

¹ See Certain Steel Nails from Taiwan: Preliminary Results and Rescission, in Part, of Antidumping Administrative Review; 2022-2023, 89 FR 57856 (July 16, 2024). The list of companies for which Commerce was rescinding the administrative review was subsequently corrected; see Certain Steel Nails from Taiwan: Preliminary Results and Rescission, in Part, of Antidumping Administrative Review; 2022-2023; Correction, 89 FR 62721 (August 1, 2024).

² See Memorandum, “Tolling of Deadlines for Antidumping and Countervailing Duty Proceedings,” dated July 22, 2024.

³ See Memorandum, “Issues and Decision Memorandum for the Final Results of the Antidumping Duty Administrative Review of Certain Steel Nails from Taiwan; 2022-2023,” dated concurrently with, and hereby adopted by, this notice (Issues and Decision Memorandum).

This review covers 23 producers and/or exporters of the subject merchandise. Commerce selected four companies, Cyuan Hong Enterprise Co. (Cyuan Hong), Hsieh Shun Iron Wire Mfg. Co., Ltd. (Hsieh Shun), Qi Ding Enterprise Co. Ltd. (Qi Ding), and Yeong Ming Steel Iron Co., Ltd. (Yeong Ming) for individual examination.⁴ Two companies, Wiresmith Industrial Co., Ltd. (Wiresmith), and Concord International Engineering & Trading Co., Ltd. (Concord International) reported having no reviewable entries during the POR, see “Final Determination of No Reviewable Sales” section below. The remaining producers and/or exporters not selected for individual examination are listed in Appendix II of this notice.

⁴ See Memorandum, “Respondent Selection,” dated October 31, 2023; see also Memoranda, “First Selection of Additional Mandatory Respondents,” dated December 29, 2023; “Second Selection of Additional Mandatory Respondents,” dated January 25, 2024; and “Third Selection of Additional Mandatory Respondents,” dated March 7, 2024. We note that Commerce selected two additional respondents; Concord International reported no reviewable entries and we were unable to deliver the questionnaire to Foison Hardware Inc. at the provided address.

Scope of the Order ⁵

⁵ See Certain Steel Nails from the Republic of Korea, Malaysia, the Sultanate of Oman, Taiwan, and the Socialist Republic of Vietnam: Antidumping Duty Orders, 80 FR 39994 (July 13, 2015) (Order).

The merchandise covered by this Order are nails from Taiwan. For a complete description of the scope of the Order, see the Issues and Decision Memorandum.

Analysis of Comments Received

All issues raised in case briefs are addressed in the Issues and Decision Memorandum and are listed in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

In response to comments made by interested parties, Commerce made changes to the dumping margin assigned to non-examined companies under review. The Issues and Decision Memorandum contains a description of this change.

Final Determination of No Reviewable Sales

In the Preliminary Results, Commerce determined that resellers Wiresmith and Concord International had no reviewable sales of subject merchandise during the POR.⁶ We received no comments from interested parties regarding our preliminary determination and do not have any information on the record to contradict this determination. Therefore, we continue to find that these two companies had no reviewable sales during the POR. As discussed further in the “Assessment Rates” section below, we will instruct CBP to liquidate any existing entries of subject merchandise produced by Wiresmith and Concord International's respective unaffiliated suppliers and attributed to Wiresmith and Concord International at the rate applicable to the unaffiliated producers, or the all-others rate if there is no rate for the unaffiliated producers.⁷

⁶ See Preliminary Results, 89 FR at 57857-57858.

⁷ See Antidumping and Countervailing Duty Proceedings: Assessment of Antidumping Duties, 68 FR 23954, 23954 (May 6, 2003) (Assessment of Antidumping Duties); see also Certain Pasta from Turkey: Notice of Preliminary Results of Antidumping Duty Administrative Review, 76 FR 23974, 23977 (April 29, 2011), unchanged in Pasta from Turkey: Notice of Final Results of the 14th Antidumping Duty Administrative Review, 76 FR 68399 (November 4, 2011).

Use of Adverse Facts Available

As discussed in the Preliminary Results, we are relying entirely upon facts otherwise available, pursuant to sections 776(a) and (b) of the Act, to assign estimated dumping margins to mandatory respondents Cyuan Hong, Hsieh Shun, Qi Ding, and Yeong Ming because these companies were unresponsive to our requests for information, and thereby withheld necessary information that was requested by Commerce, failed to provide the information requested by the specified deadlines in the form and manner requested, and significantly impeded the review. Further, Commerce finds that Cyuan Hong, Hsieh Shun, Qi Ding, and Yeong Ming failed to cooperate by not acting to the best of their ability to comply with requests for information and, thus, Commerce is applying an adverse inference in selecting among the facts available, in accordance with section 776(b) of the Act. Using adverse facts available (AFA), we are assigning these companies a rate of 78.17 percent, which is the highest rate applied in any segment of this proceeding.

Changes Since the Preliminary Results

Based on a review of the record and comments received from interested parties regarding the Preliminary Results, we revised the weighted average margin assigned to the respondents not selected for individual examination.⁸ For detailed information, see the Issues and Decision Memorandum.

⁸ See Issues and Decision Memorandum at Comment 1.

Rate for Non-Selected Companies

For the rate assigned to companies not selected for individual examination in an administrative review, generally, Commerce looks to section 735(c)(5) of the Act which provides instructions for calculating the all-others rate in an investigation. Under section 735(c)(5)(A) of the Act, the all-others rate is normally “an amount equal to the weighted average of the estimated weighted-average dumping margins established for exporters and producers individually investigated, excluding any zero or de minimis margins, and any margins determined entirely {on the basis of facts available}.” Under section 735(c)(5)(B) of the Act, if the estimated dumping margins established for all exporters and producers individually investigated are zero or de minimis margins, or are determined entirely under section 776, the administering authority may use any reasonable method to establish the estimated all-others rate for exporters and producers not individually investigated, including averaging the dumping margins determined for the exporters and producers individually investigated.

For the final results of this administrative review, we continue to base the weighted average dumping margins for Cyuan Hong, Hsieh Shun, Qi Ding, and Yeong Ming, the mandatory respondents in this review, entirely on AFA. However, while we preliminarily found that it was appropriate to assign the calculated rate from the prior proceeding to the non-selected companies under review, for these final results of review, we have instead assigned the non-selected companies an average of the mandatory respondents' AFA rate. Therefore, we are assigning a margin of 78.17 percent to the companies not individually examined (see Appendix II for a full list of these companies). For further discussion, see the Issues and Decision Memorandum.

Final Results of Review

We have determined the following dumping margins for the firms listed below for the period July 1, 2022, through June 30, 2023:

⁹ See Appendix II for a full list of companies not individually examined in this review.

Exporter/producer | Weighted- average dumping margin (percent)
Cyuan Hong Enterprise Co. | 78.17
Hsieh Shun Iron Wire Mfg. Co., Ltd. | 78.17
Qi Ding Enterprise Co., Ltd. | 78.17
Yeong Ming Steel Iron Co., Ltd. | 78.17
Companies under Review Not Selected for Individual Examination⁹ | 78.17

Disclosure

Normally, Commerce discloses to interested parties the calculations performed in connection with the final results of administrative review within five days of any public announcement or, if there is no public announcement, within five days of the date of publication of the notice of the final results in the Federal Register, in accordance with 19 CFR 351.224(b). However, because Commerce applied AFA to the four companies subject to this this review, in accordance with section 776 of the Act, there are no calculations to disclose.

Assessment Rates

Pursuant to section 751(a)(2)(C) of the Act, and 19 CFR 351.212(b)(1), Commerce will determine, and CBP shall assess, antidumping duties on all appropriate entries of subject merchandise in accordance with the final results of this review. For the companies that were not selected for individual examination, we will instruct CBP to assess antidumping duties at the assessment rate assigned to the companies, based on the methodology described in the “Rate for Non-Selected Companies” section, above. The final results of this review shall be the basis for the assessment of antidumping duties on entries of merchandise covered by the final results of this review and for future deposits of estimated duties, where applicable.¹⁰ Because we continue to find Concord International and Wiresmith had no reviewable entries during the POR in the final results, any suspended entries of subject merchandise associated with these companies will be liquidated at the rate applicable to the unaffiliated producers, or the all-others rate if there is no rate for the unaffiliated producers.

¹⁰ See section 751(a)(2)(C) of the Act.

For entries of subject merchandise during the POR produced by an individually examined respondent for which it did not know its merchandise was destined for the United States, we intend to instruct CBP to liquidate such entries at the all-others rate if there is no rate for the intermediate company(ies) involved in the transaction.¹¹

¹¹ See Assessment of Antidumping Duties, 68 FR at 23954.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of the subject merchandise entered, or withdrawn from warehouse, for consumption on or after the date of publication of the final results of this administrative review, as provided by section 751(a)(2)(C) of the Act: (1) the cash deposit rate for Cyuan Hong, Hsieh Shun, Qi Ding, Yeong Ming, and the companies listed in Appendix II will be equal to the appropriate dumping margin established in the final results of this administrative review; (2) for merchandise exported by producers or exporters not covered in this review but covered in a prior completed segment of the proceeding, the cash deposit rate will continue to be the company-specific rate published in the completed segment for the most recent period; (3) if the exporter is not a firm covered in this review, a prior review, or the original less than fair value (LTFV) investigation, but the producer has been covered in a prior completed segment of this proceeding, then the cash deposit rate will be the rate established in the completed segment for the most recent period for the producer of the merchandise; and (4) the cash deposit rate for all other producers and exporters will continue to be 2.16 percent, the all-others rate established in the LTFV investigation, as amended.¹² These cash deposit requirements, when imposed, shall remain in effect until further notice.

¹² See Certain Steel Nails from Taiwan: Notice of Court Decision Not in Harmony With Final Determination in Less Than Fair Value Investigation and Notice of Amended Final Determination, 82 FR 55090 (November 20, 2017).

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order (APO)

This notice also serves as a final reminder to parties subject to an APO of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing these final results of administrative review in accordance with sections 751(a)(1) and 777(i) of the Act, and 19 CFR 351.221(b)(5).

Dated: November 20, 2024.
Abdelali Elouaradia,
Deputy Assistant Secretary for Enforcement and Compliance.

Appendix I—List of Topics Discussed in the Issues and Decision Memorandum

I. Summary

II. Background

III. Scope of the Order

IV. Changes Since the Preliminary Results

V. Discussion of the Issues

Comment 1: Whether To Calculate the Non-Selected Respondents' Rate Based on the Mandatory Respondents' Rates

VI. Recommendation

Appendix II—List of Companies Under Review Not Selected for Individual Examination

1. Bestwell International Corporation

2. Create Trading Co., Ltd.

3. Dar Yu Enterprise Co., Ltd.

4. Fastnet Corporation

5. Foison Hardware Income

6. GoFast Company Limited

7. JCH Hardware Company Inc.

8. Jockey Ben Metal Enterprise Co., Ltd.

9. Liang Chyuan Industrial Co., Ltd.; Integral Building Products Inc.

10. Midas Union Co., Ltd.

11. Pao Shen Enterprises Co., Ltd.

12. Rodex Fasteners Corp.

13. Spec Products Corporation

14. Ume-Pride International Inc.

15. WTA International Co., Ltd.

16. Wu Shun Enterprise Co.

17. Yeun Chang Hardware Tool Company Limited

[FR Doc. 2024-27701 Filed 11-25-24; 8:45 am]

BILLING CODE 3510-DS-P